NUCLEAR REGULATORY COMMISSION

Progress Energy Florida, Inc. Notice of Receipt and Availability of Application for a Combined License

On July 30, 2008, Progress Energy Florida (PEF, or the applicant) filed with the Nuclear Regulatory Commission (NRC, the Commission) pursuant to Section 103 of the Atomic Energy Act and Title 10 of the Code of Federal Regulations (10 CFR) Part 52, “Licenses, Certifications, and Approvals for Nuclear Power Plants,” an application for a Combined License (COL) for two AP1000 nuclear power plants at site located in Levy County, Florida. The reactors are to be identified as Levy Nuclear Plant (LNP) Units 1 and 2.

An applicant may seek a COL in accordance with Subpart C of 10 CFR Part 52. The information submitted by the applicant includes certain administrative information such as financial qualifications submitted pursuant to 10 CFR 52.77, as well as technical information submitted pursuant to 10 CFR 52.79. The applicant also requested exemptions from certain requirements of Section IV.A.2. Appendix D to 10 CFR Part 52 and 10 CFR 52.79 (a)(44) as documented in part 7 of the application.

Subsequent Federal Register notices will address the acceptability of the tendered COL application for docketing and provisions for participation of the public in the COL review process.

A copy of the application is available for public inspection at the Commission's Public Document Room (PDR), located at One White Flint North, Public File Area O1 F21, 11555 Rockville Pike (first floor), Rockville, Maryland, and via the Agencywide Documents Access and Management System (ADAMS) Public Electronic Reading Room on the Internet at the NRC Web site, http://www.nrc.gov/reading-rm/adams.html. The accession number for the cover letter of the application is ML082260277. Future publicly available documents related to the application will also be posted in ADAMS.

Persons who do not have access to ADAMS, or who encounter problems in accessing the documents located in ADAMS, should contact the NRC Public Document Room staff by telephone at 1-800-397-4209 or 301-415-4737, or by e-mail to pdr@nrc.gov. The application is also available at http://www.nrc.gov/reactors/newlicensing/col.html.

Dated at Rockville, Maryland, this day 15th of September 2008.
For the Nuclear Regulatory Commission.
Brian Anderson,
Lead Project Manager, AP1000 Projects Branch 1, Division of New Reactor Licensing, Office of New Reactors.

[FR Doc. E8-24265 Filed 10-10-08; 8:45 am]

BILLING CODE 7590-01-P